ENVIRONMENTAL PROTECTION AGENCY

[FRL-6902-5]

Second Consultation Meeting on a Longitudinal Cohort Study of Environmental Effects on Children

AGENCY: Environmental Protection Agency.

ACTION: Notice of public meeting: consultation on the plans for a longitudinal cohort study of environmental effects on children.

SUMMARY: The Environmental Protection Agency (EPA) is announcing a two-day meeting cosponsored by the Office of Behavioral and Social Science Research (OBSSR) of the National Institutes of Health (NIH), the National Institute of Child Health and Human Development (NICHD)/NIH, and the National Center for Environmental Health (NCEH) of the Centers for Disease Control and Prevention (CDC). The meeting is being convened to discuss the development of a longitudinal cohort study of environmental effects on the health and well-being of children. Content of the meeting will include the status of activities to date, outline of study rationale and plan, issues of longitudinal cohort design, ethical issues, and discussion groups for input and feedback.

DATES: The meeting dates are December 12, 2000, from 8:30 a.m. until 5:00 p.m., and December 13, 2000, from 8:30 a.m. until 12:30 p.m.

ADDRESSES: The meeting site is the Marriott at Metro Center, 775 12th Street, NW., Washington, DC. The workshop is open to the public, but seating is limited to a maximum of 400. Those planning to attend must register no later than November 29, 2000.

FOR FURTHER INFORMATION CONTACT: To register as an observer, contact Ms. Kim Brickhouse, TASCON, P.O. Box 30686, Bethesda, MD 20824-0686; telephone: 301-315-9000, ext. 516; facsimile: 301-738-9786; email: kbrickhouse@tascon.com. For further information, contact Dr. Peter Scheidt, National Institute of Child Health and Human Development, National Institutes of Health, U.S. Department of Health and Human Services, Room 7B05, 6100 Executive Boulevard, Bethesda, MD 20892; telephone: 301-496-5064; facsimile: 301-402-2084; e-mail: scheidtp@mail.nih.gov.

Dated: November 8, 2000.
William H. Farland,
Director, National Center for Environmental Assessment.

[FR Doc. 00-29359 Filed 11-15-00; 8:45 am]

BILLING CODE 6560-50-P